SECURITIES AND EXCHANGE COMMISSION

Sunshine Act Meeting; Cancellation

Federal Register CITATION OF PREVIOUS ANNOUNCEMENT: 85 FR 40354, July 6, 2020

PREVIOUSLY ANNOUNCED TIME AND DATE OF THE MEETING: Wednesday, July 8, 2020 at 2:00 p.m.

CHANGES IN THE MEETING: The Closed Meeting scheduled for Wednesday, July 8, 2020 at 2:00 p.m., has been cancelled.

CONTACT PERSON FOR MORE INFORMATION: For further information; please contact Vanessa A. Countryman from the Office of the Secretary at (202) 551-5400.

Dated: July 7, 2020.
Vanessa A. Countryman,
Secretary.

[FR Doc. 2020-14989 Filed 7-8-20; 11:15 am]

BILLING CODE 8011-01-P